DEPARTMENT OF JUSTICE

Antitrust Division

Notice Pursuant to the National Cooperative Research and Production Act of 1993—National Biodiesel Accreditation Commission

Notice is hereby given that, on May 15, 2009, pursuant to Section 6(a) of the National Cooperative Research and Production Act of 1993, 15 U.S.C. 4301 et seq. (“the Act”), National Biodiesel Accreditation Commission (“NBAC”) has filed written notifications simultaneously with the Attorney General and the Federal Trade Commission disclosing additions or changes to its standards development activities. The notifications were filed for the purpose of extending the Act's provisions limiting the recovery of antitrust plaintiffs to actual damages under specified circumstances.

Specifically, the NBAC has: (1) Amended its Marketer Program Requirements to adopt new normative references, require updating of quality management systems, make corrections to a specification procedure, add a cold soak filterability test requirement, require specification of final biodiesel content of a blended product prior to sale, change sampling and testing requirements of biodiesel stored for more than thirty days, require documentation of certain reinspections, require periodic validation of blending system accuracy, and delete a sixty-day storage sampling requirement; (2) amended its Producer Program Requirements to adopt new normative references, require the updating of quality management systems, amend the definition of Producer, add a cold soak filterability test requirement, amend production lot homogeneity requirements, add sampling requirements, add an oxidative stability test requirement for commingled production lots, provide an alternative test for the presence of certain elements, require disclosure of specifications which are less than full specifications, change the testing required of certain stored biodiesel, and add a new appendix diagraming the requirements for production lot homogeneity testing; and (3) adopted a laboratory certification program for the operation of commercial laboratories which test biodiesel and biodiesel blends for compliance with regulatory standards. Certification by the Commission indicates the applicant laboratory possesses and implements a quality control/quality assurance program meeting the Commission's requirements.

On August 27, 2004, NEAC filed its original notification pursuant to Section 6(a) of the Act. The Department of Justice published a notice in the Federal Register pursuant to Section 6(b) of the Act on October 4, 2004 (69 FR 59269).

The last notification was filed with the Department on June 19, 2007. A notice was published in the Federal Register pursuant to Section 6(b) of the Act on September 11, 2007 (72 FR 51841).

Patricia A. Brink,
Deputy Director of Operations, Antitrust Division.

[FR Doc. E9-16776 Filed 7-16-09; 8:45 am]

BILLING CODE 4410-11-M